DEPARTMENT OF TRANSPORTATION

Office of the Secretary

[Docket No. DOT-OST-2025-1359]

Privacy Act of 1974; System of Records

AGENCY: Office of the Departmental Chief Information Officer, Office of the Secretary of Transportation, Department of Transportation (DOT).

ACTION: Notice of a modified System of Records.

SUMMARY: In accordance with the Privacy Act of 1974, the Department of Transportation (DOT), Office of the Secretary (OST), proposes to rename, update, and reissue an existing system of records titled, “DOT/ALL 7—Departmental Accounting and Financial Information System (DAFIS) and Delphi Accounting System.” The name of this system of records notice will be changed to “DOT/ALL 7—DOT Financial Management Records”. The records in the system are used to perform transaction based financial management functions and mandated government reporting.

DATES: Submit comments on or before January 2, 2026. The Department may publish an amended Systems of Records Notice considering any comments received. This modified system will be effective immediately upon publication. The routine uses will be effective January 2, 2026.

ADDRESSES: You may submit comments, identified by docket number DOT-OST-2025-1359 by one of the following methods:

• Federal e-Rulemaking Portal: https://www.regulations.gov. Follow the instructions for submitting comments.

• Mail: Department of Transportation Docket Management, Room W12-140, 1200 New Jersey Ave. SE, Washington, DC 20590.

• Hand Delivery or Courier: West Building Ground Floor, Room W12-140, 1200 New Jersey Ave. SE, between 9 a.m. and 5 p.m. ET, Monday through Friday, except Federal holidays.

• Instructions: You must include the agency name and docket number DOT-OST-2025-1359. All comments received will be posted without change to https://www.regulations.gov, including any personal information provided. You may review the Department of Transportation's complete Privacy Act statement in the Federal Register published on April 11, 2000 (65 FR 19477-78).

Privacy Act: Anyone is able to search the electronic form of all comments received in any of our dockets by the name of the individual submitting the comment (or signing the comment, if submitted on behalf of an association, business, labor union, etc.).

Docket: For access to the docket to read background documents or comments received, go to https://www.regulations.gov or to the street address listed above. Follow the online instructions for accessing the docket.

FOR FURTHER INFORMATION CONTACT: For questions, please contact Karyn Gorman, Departmental Chief Privacy Officer, Privacy Office, Department of Transportation, Washington, DC 20590; email: privacy@dot.gov; or 202-603-8321.

SUPPLEMENTARY INFORMATION:

Notice Updates

This Notice includes both substantive changes and non-substantive changes to the previously published Notice. The substantive changes have been made to system name, system location, system manager, authority for maintenance of the system, categories of individuals covered by the system, categories of records in the system, purpose of the system, record source categories, Routine Uses maintained in the system, policies and practices for storing, retrieval, retention and disposal of the records in the system, and administrative, technical and physical safeguards. Non-substantive changes have been made to record access procedures as well as revisions to align with the requirements of Office of Management and Budget Memoranda (OMB) A-108 and to ensure consistency with other Notices issued by the Department of Transportation.

Background

In accordance with the Privacy Act of 1974, the Department of Transportation proposes to modify and re-issue an existing system of records titled “DOT/ALL 7—Departmental Accounting and Financial Information System (DAFIS) and Delphi Accounting System” and change the name to “DOT/ALL 7—DOT Financial Management Records”. This system of records covers records collected and maintained for the purposes of performing transaction based financial management functions and mandated government reporting. The following substantive changes have been made to the Notice:

1. System Name: Is updated to “DOT/ALL 7—DOT Financial Management Records” from “DOT/ALL 7—Departmental Accounting and Financial Information System (DAFIS) and Delphi Accounting System” to more accurately reflect the records covered under the Notice.

2. System Location: Is updated to remove outdated references to Operating Administrations and specify the location of DOT's Federal shared service provider.

3. System Manager: This Notice updates the system manager name and address. The previous address listed was U.S. DOT, 400 7th Street SW, Washington, DC 20590.

4. Authority: This Notice updates the authorities to include 49 U.S.C. 322 (DOT general powers), 31 U.S.C. 3512 (b) (agency authority to maintain financial management systems and internal controls), 26 U.S.C. 6109 (Identifying numbers), 41 CFR Chapters 300-304 (Federal Travel Regulations) and E.O. 9397 (SSN) as amended (relating to use of SSNs) to expand and include relevant regulations to align with the collection of personally identifiable information and data in the system.

5. Purpose: Is updated to clarify how the records are used in the system and for what purpose and to include non-DOT federal agencies on a fee for use basis.

6. Categories of Individuals: Updated categories of individuals to clearly define and identify who is covered by this system of records to include employees, individuals engaged with business activities as invitational travelers, vendors, debtors, or grantees, for DOT Operating Administrations, and other federal agencies on a fee-for-use basis.

7. Categories of Records: Updated to better describe the type of records maintained in the system to include individuals' contact information, bank account information, travel reimbursement data, government-issued charge cards, and sole proprietor information serving as an individual.

8. Record source Categories: Updated to remove reference to the legacy DOT Consolidated Uniform Payroll System and replaced with current source categories from which individual's data is obtained.

9. Routine Uses: Updated routine uses to include system specific routine uses that allows disclosing of data obtained from the General Services Administration (GSA) System for Award Management, and added disclosure for Treasury's Do Not Pay Working System to support Executive Order 14249, Protecting America's Bank Account Against Fraud, Waste, and Abuse, and align with recent requirements specified in the August 20, 2025 OMB Memo M-25-32, Preventing Improper Payments and Protecting Privacy Through Do Not Pay. This notice also modifies the routine uses by adding and updating the specific DOT General Routine Uses that apply to this system.

10. Records Storage: Updated policies and practices for the storage of records to inform the public that records are no longer stored on magnetic tape or disks, microfiche, and paper and now are digitized and input records are maintained on electronic storage media.

11. Records Retrieval: Updated the policies and practices for the retrieval of records to inform the public records may be retrieved by a unique supplier number assigned by the system and queried by Social Security Number (SSN), or Tax Identification Number (TIN).

12. Retention and Disposal: Updated the policies and practices for the retention of records to reflect updated NARA record schedules. The previous NARA record schedule no longer applies to the records in the system.

13. Administrative, Technical, and Physical Safeguards: Updated to account for the agency's transition from paper to electronic recordkeeping and the Information Technology measures that are in place to protect the records.

The following non-substantive changes have been made to the Notice:

14. Record Access: Updated the record access procedures to reflect signatures on signed requests for records must either be notarized or accompanied by a statement made under penalty of perjury in compliance with 28 U.S.C. 1746.

Privacy Act

The Privacy Act (5 U.S.C. 552a) governs the means by which the Federal Government collects, maintains, and uses personally identifiable information (PII) in a System of Records. A “System of Records” is a group of any records under the control of a Federal agency from which information about individuals is retrieved by name or other personal identifier. The Privacy Act requires each agency to publish in the Federal Register a System of Records Notice (SORN) identifying and describing each System of Records the agency maintains, including the purposes for which the agency uses PII in the system, the routine uses for which the agency discloses such information outside the agency, and how individuals to whom a Privacy Act record pertains can exercise their rights under the Privacy Act (e.g., to determine if the system contains information about them and to contest inaccurate information). In accordance with 5 U.S.C. 552a(r), DOT has provided a report of this system of records to the Office of Management and Budget and to Congress.

SYSTEM NAME AND NUMBER:

Department of Transportation, DOT/ALL 7—DOT Financial Management Records

SECURITY CLASSIFICATION:

Unclassified.

SYSTEM LOCATION:

(1) Department of Transportation, DOT Accounting offices and selected program, policy, and budget Offices. Records may also be maintained in regional Departmental and Operating Administration locations that prepare and provide input information for controlling and facilitating the accounting and reporting of financial transactions for this system.

(2) Federal Aviation Administration's Mike Monroney Aeronautical Center. Serving as a Federal shared service provider centrally maintaining the system software and data centers and providing accounting and financial management services to federal agencies.

SYSTEM MANAGER(S):

Office of Financial Management, (B-30), Office of the Secretary, 1200 New Jersey Ave. SE, Washington, DC 20590.

AUTHORITY FOR MAINTENANCE OF THE SYSTEM:

49 U.S.C. 322, 31 U.S.C. 3512(b), 26 U.S.C. 6109, 41 CFR Chapters 300-304 and E.O. 9397 (SSN) as amended.

PURPOSE(S) OF THE SYSTEM:

The purpose of the system is to support financial management for Federal agencies by providing a standard solution for controlling and facilitating the accounting and reporting of financial transactions. Records are collected to perform transaction based financial management functions to include procurement payables, inventory, general ledger, financial reporting, budgeting, accounts payable, employee reimbursements, accounts receivable, purchasing, project accounting, payroll summary, financial statements and mandated government reporting for DOT and other non-DOT federal agencies on a fee-for-use basis.

CATEGORIES OF INDIVIDUALS COVERED BY THE SYSTEM:

Current and former U.S. federal employees of DOT and non-DOT federal agencies obtaining accounting and financial management services on a fee-for-service basis. Individuals engaged with business activities, or have previously conducted business activities, as invitational travelers (traveling at the agency request), vendors, debtors, or grantees with the DOT and non-DOT federal agencies obtaining accounting and financial management services on a fee-for-service basis. Only records reflecting personal information are subject to the Privacy Act. The system also contains records concerning corporations, other business entities, and organizations whose records are not subject to the Privacy Act.

CATEGORIES OF RECORDS IN THE SYSTEM:

Individual's Name, Social Security Number (SSN), Tax Identification Number (TIN), home and/or business address, personal and/or business telephone number, personal and/or business email address, personal and/or business bank account information, government-issued charge card information, and financial transactions related to the DOT and non-DOT federal agencies obtaining accounting and financial management services on a fee-for-service basis.

RECORD SOURCE CATEGORIES:

Individuals, contractors, vendors to include sole proprietors, grantees, other government agencies, documents submitted to or received from specific offices maintaining the records in the performance of their duties. Records are collected from Department of Interior's Federal Personnel Payment System (FPPS) for employee data required to support employee reimbursements, from GSA's System of Award Management (SAM) to obtain grantee and vendor data for financial transactions, and from the GSA's Smart Pay Vendor travel application for traveler data to support travel reimbursements.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DOT as a routine use pursuant to 5 U.S.C. 552a(b)(3) as follows:

System Specific Uses:

1. Records may be disclosed in this system as a routine use to federal agencies or organizations for fiscal operations related to employee reimbursements and to facilitate the distribution of labor charges for cost accounting purposes.

2. Information in this system from GSA's SAM may be disclosed as a routine use for the purpose of processing payments to vendors and grantees doing business with DOT and non-DOT federal agencies using DOT's financial and accounting system.

3. To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

Departmental General Routine Uses:

4. In the event that a system of records maintained by DOT to carry out its functions indicates a violation or potential violation of law, whether civil, criminal or regulatory in nature, and whether arising by general statute or particular program pursuant thereto, the relevant records in the system of records may be referred, as a routine use, to the appropriate agency, whether Federal, State, local or foreign, charged with the responsibility of investigating or prosecuting such violation or charged with enforcing or implementing the statute, or rule, regulation, or order issued pursuant thereto.

5. A record from this system of records may be disclosed, as a routine use, to a Federal, State, or local agency maintaining civil, criminal, or other relevant enforcement information or other pertinent information, such as current licenses, if necessary to obtain information relevant to a DOT decision concerning the hiring or retention of an employee, the issuance of a security clearance, the letting of a contract, or the issuance of a license, grant or other benefit.

6. A record from this system of records may be disclosed, as a routine use, to a Federal agency, in response to its request, in connection with the hiring or retention of an employee, the issuance of a security clearance, the reporting of an investigation of an employee, the letting of a contract, or the issuance of a license, grant, or other benefit by the requesting agency, to the extent that the information is relevant and necessary to the requesting agency's decision on the matter.

7a. Routine Use for Disclosure for Use in Litigation. It shall be a routine use of the records in this system of records to disclose them to the Department of Justice or other Federal agency conducting litigation when—

(a) DOT, or any agency thereof, or

(b) Any employee of DOT or any agency thereof, in his/her official capacity, or

(c) Any employee of DOT or any agency thereof, in his/her individual capacity where the Department of Justice has agreed to represent the employee, or

(d) The United States or any agency thereof, where DOT determines that litigation is likely to affect the United States, is a party to litigation or has an interest in such litigation, and the use of such records by the Department of Justice or other Federal agency conducting the litigation is deemed by DOT to be relevant and necessary in the litigation, provided, however, that in each case, DOT determines that disclosure of the records in the litigation is a use of the information contained in the records that is compatible with the purpose for which the records were collected.

7b. Routine Use for Agency Disclosure in Other Proceedings. It shall be a routine use of records in this system to disclose them in proceedings before any court or adjudicative or administrative body before which DOT or any agency thereof, appears, when—

(a) DOT, or any agency thereof, or

(b) Any employee of DOT or any agency thereof in his/her official capacity, or

(c) Any employee of DOT or any agency in his/her individual capacity where DOT has agreed to represent the employee, or

(d) The United States or any agency thereof, where DOT determines that the proceeding is likely to affect the United States, is a party to the proceeding or has an interest in such proceeding, and DOT determines that use of such records is relevant and necessary in the proceeding, provided, however, that in each case, DOT determines that disclosure of the records in the proceeding is a use of the information contained in the records that is compatible with the purpose for which the records were collected.

8. The information contained in this system of records will be disclosed to the Office of Management and Budget, OMB, in connection with the review of private relief legislation as set forth in OMB Circular No. A-19 at any stage of the legislative coordination and clearance process as set forth in that Circular.

9. Disclosure may be made to a Congressional office from the record of an individual in response to an inquiry from the Congressional office made at the request of that individual. In such cases, however, the Congressional office does not have greater rights to records than the individual. Thus, the disclosure may be withheld from delivery to the individual where the file contains investigative or actual information or other materials which are being used, or are expected to be used, to support prosecution or fines against the individual for violations of a statute, or of regulations of the Department based on statutory authority. No such limitations apply to records requested for Congressional oversight or legislative purposes; release is authorized under 49 CFR 10.35(9).

10. One or more records from a system of records may be disclosed routinely to the National Archives and Records Administration in records management inspections being conducted under the authority of 44 U.S.C. 2904 and 2906.

11. DOT may make available to another agency or instrumentality of any government jurisdiction, including State and local governments, listings of names from any system of records in DOT for use in law enforcement activities, either civil or criminal, or to expose fraudulent claims, regardless of the stated purpose for the collection of the information in the system of records. These enforcement activities are generally referred to as matching programs because two lists of names are checked for match using automated assistance. This routine use is advisory in nature and does not offer unrestricted access to systems of records for such law enforcement and related antifraud activities. Each request will be considered on the basis of its purpose, merits, cost effectiveness and alternatives using Instructions on reporting computer matching programs to the Office of Management and Budget, OMB, Congress, and the public, published by the Director, OMB, dated September 20, 1989.

12. It shall be a routine use of the information in any DOT system of records to provide to the Attorney General of the United States, or his/her designee, information indicating that a person meets any of the disqualifications for receipt, possession, shipment, or transport of a firearm under the Brady Handgun Violence Prevention Act. In case of a dispute concerning the validity of the information provided by DOT to the Attorney General, or his/her designee, it shall be a routine use of the information in any DOT system of records to make any disclosures of such information to the National Background Information Check System, established by the Brady Handgun Violence Prevention Act, as may be necessary to resolve such dispute.

13a. To appropriate agencies, entities, and persons when (1) DOT suspects or has confirmed that there has been a breach of the system of records; (2) DOT has determined that as a result of the suspected or confirmed breach there is a risk of harm to individuals, DOT (including its information systems, programs, and operations), the Federal (3) the disclosure made to such agencies, entities, and persons is reasonably necessary to assist in connection with DOT's efforts to respond to the suspected or confirmed breach or to prevent, minimize, or remedy such harm.

13b. To another Federal agency or Federal entity, when DOT determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

14. DOT may disclose records from this system, as a routine use, to the Office of Government Information Services for the purpose of (a) resolving disputes between FOIA requesters and Federal agencies and (b) reviewing agencies' policies, procedures, and compliance in order to recommend policy changes to Congress and the President.

15. DOT may disclose records from this system, as a routine use, to contractors and their agents, experts, consultants, and others performing or working on a contract, service, cooperative agreement, or other assignment for DOT, when necessary to accomplish an agency function related to this system of records.

16. DOT may disclose records from this system, as a routine use, to an agency, organization, or individual for the purpose of performing audit or oversight operations related to this system of records, but only such records as are necessary and relevant to the audit or oversight activity. This routine use does not apply to intra-agency sharing authorized under Section (b)(1) of the Privacy Act.

17. DOT may disclose from this system, as a routine use, records consisting of, or relating to, terrorism information (6 U.S.C. 485(a)(5)), homeland security information (6 U.S.C. 482(f)(1)), or Law enforcement information (Guideline 2 Report attached to White House Memorandum, “Information Sharing Environment, November 22, 2006) to a Federal, State, local, tribal, territorial, foreign government and/or multinational agency, either in response to its request or upon the initiative of the Component, for purposes of sharing such information as is necessary and relevant for the agencies to detect, prevent, disrupt, preempt, and mitigate the effects of terrorist activities against the territory, people, and interests of the United States of America, as contemplated by the Intelligence Reform and Terrorism Prevention Act of 2004 (Pub. L. 108-458) and Executive Order 13388 (October 25, 2005).

POLICIES AND PRACTICES FOR STORAGE OF RECORDS:

Records are stored on electronic storage media in accordance with the safeguards below.

POLICIES AND PRACTICES FOR RETRIEVAL OF RECORDS:

Records are retrieved by a unique supplier number assigned by the system for both individuals and vendors; records can be queried by name, SSN, or TIN.

POLICIES AND PRACTICES FOR RETENTION AND DISPOSAL OF RECORDS:

Records in the system are maintained in accordance with NARA records schedule and retention: GRS 1.1: Financial Management and Reporting Records, Item 10, DAA-GRS-2013-0003-0001; Financial transaction records related to procuring goods and services, paying bills, collecting debts, and accounting is the only that applies. Temporary. Destroy 6 years after final payment or cancellation, but longer dependent on business need.

ADMINISTRATIVE, TECHNICAL, AND PHYSICAL SAFEGUARDS:

Administrative Procedures: Access to the records is limited to person(s) responsible for servicing the records in performance of their official duties, who are properly screened, trained on policies and procedures, and cleared for need to-know. Personnel who access the system and its data must take security awareness training and sign a Rules of Behavior initially (prior to access) and, at least, annually thereafter. Technical: Regular monitoring of users and the system are implemented to ensure only authorized personnel have access to information in the system. Strict controls are in place to minimize the compromise of stored or accessed in the system. Physical: The system and the data are housed in secure data center.

RECORD ACCESS PROCEDURES:

Individuals seeking access to records about themselves contained in this system should address inquiries to the System Manager at the address identified in “System Manager and Address” above. Request must be in writing, include SORN ID and name of this system of records notice, information on the Operating Administration-Department, specific date range and specific type of records seeking. Request must be signed by the requester, must be notarized as required by 28 U.S.C. 1746 in the following format: If executed without the United States: “I declare (or certify, verify, or state) under penalty of perjury under the laws of the United States of America that the foregoing is true and correct. Executed on (date). (Signature)”. If executed within the United States, its territories, possessions, or commonwealths: “I declare (or certify, verify, or state) under penalty of perjury that the foregoing is true and correct. Executed on (date). (Signature)”.

CONTESTING RECORD PROCEDURES:

See “Record Access Procedures” above.

NOTIFICATION PROCEDURES:

See “Record Access Procedures” above.

EXEMPTIONS PROMULGATED FOR THE SYSTEM:

None.

HISTORY:

A full notice of this system of records, Departmental Accounting and Financial Information System (DAFIS) and Delphi Accounting System, was published in the Federal Register on April 11, 2000 (65 FR 19481).

Issued in Washington, DC.
Karyn Gorman,
Chief Privacy Officer.

[FR Doc. 2025-21745 Filed 12-1-25; 8:45 am]

BILLING CODE 4910-9X-P